DEPARTMENT OF HEALTH AND HUMAN SERVICES

Centers for Disease Control and Prevention

[60Day-16-16BX; Docket No. CDC-2015-0092]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Monitoring and Reporting for the Core State Violence and Injury Prevention Program Cooperative Agreement.” CDC will use the information collected to monitor cooperative agreement awardees and to identify challenges to program implementation and achievement of outcomes.

DATES: Written comments must be received on or before January 4, 2016.

ADDRESSES: You may submit comments, identified by Docket No. CDC-2015-0092 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Monitoring and Reporting for the Core State Violence and Injury Prevention Program Cooperative Agreement—New—National Center for Injury Prevention and Control (NCIPC), Centers for Disease Control and Prevention (CDC).

Background and Brief Description

Unintentional and violence-related injuries and their consequences are the leading causes of death for the first four decades of life, regardless of gender, race, or socioeconomic status. More than 192,000 individuals in the United States die each year as a result of unintentional injuries and violence, and more than 31 million others suffer non-fatal injuries requiring emergency department visits each year. Given these factors, the Public Health Service Act (PHS Act) provides an important opportunity for states to advance public health across the lifespan and to reduce health disparities. Support and guidance for these programs have been provided through cooperative agreement funding and technical assistance administered by CDC's National Center for Injury Prevention and Control (NCIPC). The goal of this ICR is to collect information needed to monitor cooperative agreement programs funded under the Core State Violence and Injury Prevention Program (Core SVIPP) (CDC-RFA-CE16-1602).

Information to be collected will provide crucial data for program performance monitoring and provide CDC with the capacity to respond in a timely manner to requests for information about the program from the Department of Health and Human Services (HHS), the White House, Congress, and other sources. Awardees will report progress and activity information to CDC on an annual schedule using an Excel-based fillable electronic templates. Each awardee will submit three information collection tools: Annual Progress Report, Evaluation and Performance Management Plan, and Injury Indicator Spreadsheets. In Year 1, each awardee will have additional burden related to initial collection of the reporting tools. Initial population of the tools is a one-time activity, after completing the initial population of the tools, pertinent information only needs to be updated annually for each report.

CDC will use the information collected to monitor each awardee's progress and to identify facilitators and challenges to program implementation and achievement of outcomes. Monitoring allows CDC to determine whether an awardee is meeting performance and goals and to make adjustments in the type and level of technical assistance provided to them, as needed, to support attainment of their performance measures. With the tools, the use of a standard set of data elements, definitions and specifications at all levels will help to improve the quality and comparability of performance information that is received by CDC for multiple awardees and multiple award types by ensuring that the same information is collected on all strategies and performance measures with slightly different areas of emphasis, depending on the awardee type (BASE, Enhanced with 1 Component, or Enhanced 2 Components).

OMB approval is requested for three years. Participation in the information collection is required as a condition of funding. There are no costs to respondents other than their time.

Estimated Annualized Burden Hours
Type of respondents | Form name | Number of respondents | Number of responses per respondent | Average burden per response (in hours) | Total burden (in hours)
Core SVIPP BASE Awardees | Initial Population—Annual Progress Report | 20 | 1 | 22 | 440
| Annual Progress Report | 20 | 1 | 11 | 220
| Evaluation and Performance Management Plan | 20 | 1 | 2 | 40
| Injury Indicator Spreadsheet | 20 | 1 | 14 | 280
Core SVIPP 1—Enhanced Component Awardees | Initial Population—Annual Progress Report | 5 | 1 | 73 | 365
| Annual Progress Report | 5 | 1 | 58 | 290
| Evaluation and Performance Management Plan | 5 | 1 | 3 | 15
| Injury Indicator Spreadsheet | 5 | 1 | 14 | 70
Core SVIPP 2—Enhanced Component Awardees | Initial Population—Annual Progress Report | 5 | 1 | 146 | 730
| Annual Progress Report | 5 | 1 | 116 | 580
| Evaluation and Performance Management Plan | 5 | 1 | 4 | 20
| Injury Indicator Spreadsheet | 5 | 1 | 14 | 70
Total |  |  |  |  | 3,120

Leroy A. Richardson,
Chief, Information Collection Review Office, Office of Scientific Integrity, Office of the Associate Director for Science, Office of the Director, Centers for Disease Control and Prevention.

[FR Doc. 2015-28153 Filed 11-4-15; 8:45 am]

BILLING CODE 4163-18-P